DEPARTMENT OF THE INTERIOR

Minerals Management Service

Outer Continental Shelf (OCS), Western and Central Gulf of Mexico, Oil and Gas Lease Sales for Years 2007-2012

AGENCY: Minerals Management Service, Interior.

ACTION: Notice of Intent to Prepare an Environmental Impact Statement and Scoping Meetings.

1. Authority

The Notice of Intent (NOI) and notice of scoping meetings is published pursuant to the regulations (40 CFR 1501.7) implementing the provisions of the National Environmental Policy Act (NEPA) of 1969 as amended (42 U.S.C. 4321 et seq. (1988)).

2. Purpose of Notice of Intent

Pursuant to the regulations implementing the procedural provisions of the NEPA, MMS is announcing its intent to prepare an EIS on the tentatively scheduled 2007-2012 oil and gas leasing proposals in the Western and Central Gulf of Mexico (GOM), off the States of Texas, Louisiana, Mississippi, and Alabama. The NOI also serves to announce the scoping process for this EIS. Throughout the scoping process, Federal, State, and local government agencies, and other interested parties have the opportunity to aid MMS in determining the significant issues and alternatives to be analyzed in the EIS. The EIS analysis will focus on the potential environmental effects of oil and natural gas leasing, exploration, development, and production in the areas identified through the Area Identification procedure as the proposed lease sale areas. Alternatives that may be considered for each sale are no action (i.e., cancel the sale), or defer certain areas from the sale.

3. Supplemental Information

Federal regulations allow for several proposals to be analyzed in one EIS (40 CFR 1502.4). Since each sale proposal and projected activities are very similar each year for each sale area, MMS is proposing to prepare a single EIS (multisale EIS) for the five Western and six Central GOM annual lease sales scheduled for 2007-2012 in the draft proposed Outer Continental Shelf Oil and Gas Leasing Program: 2007-2012 (See 71 FR 7064, February 10, 2006). The multisale approach is intended to focus the NEPA/EIS process on differences between the proposed sales and on new issues and information. The multisale EIS will eliminate the repetitive issuance of complete draft and final EIS's for each sale area. The resource estimates and scenario information for the EIS analyses will be presented as a range that would encompass the resources and activities estimated for any of the eleven proposed lease sales. At the completion of this EIS process, decisions will be made only for the first proposed sale in each sale area, scheduled to be held in 2007 (Western) and 2007 (Central). Subsequent to these first sales, a NEPA review will be conducted for each of the other proposed lease sales in the 2007-2012 Leasing Program. Formal consultation with other Federal Agencies, the affected States, and the public will be carried out to assist in the determination of whether or not the information and analyses in the original multisale EIS are still valid. These consultations and NEPA reviews will be completed before decisions are made on the subsequent sales. For more information on the proposed sales or the EIS, you may contact Dennis Chew, Gulf of Mexico OCS Region, 1201 Elmwood Park Boulevard, MS 5410, New Orleans, Louisiana 70123-2394 or e-mail environment@mms.gov. You may also contact Mr. Chew by telephone at (504) 736-2793.

4. Cooperating Agency

The MMS invites other Federal agencies and state, tribal, and local governments to consider becoming cooperating agencies in the preparation of the multisale EIS. We invite qualified government entities to inquire about cooperating agency status for the EIS. Following the guidelines from the Council of Environmental Quality (CEQ), qualified agencies and governments are those with “jurisdiction by law or special expertise.” Potential cooperating agencies should consider their authority and capacity to assume the responsibilities of a cooperating agency and to remember that an agency's role in the environmental analysis neither enlarges nor diminishes the final decision making authority of any other agency involved in the NEPA process. Upon request, MMS will provide potential cooperating agencies with a written summary of ground rules for cooperating agencies, including time schedules and critical action dates, milestones, responsibilities, scope and detail of cooperating agencies' contributions, and availability of predecisional information. MMS anticipates this summary will form the basis for a Memorandum of Understanding between the MMS and each cooperating agency. Agencies should also consider the “Factors for Determining Cooperating Agency Status” in Attachment 1 to CEQ's January 30, 2002, Memorandum for the Heads of Federal Agencies: Cooperating Agencies in Implementing the Procedural Requirements of the National Environmental Policy Act. A copy of this document is available at: http://ceq.eh.doe.gov/nepa/regs/cooperating/cooperatingagenciesmemorandum.html and http://ceq.eh.doe.gov/nepa/regs/cooperating/cooperatingagencymemofactors.html.

The MMS, as the lead agency, will not provide financial assistance to cooperating agencies. Even if an organization is not a cooperating agency, opportunities will exist to provide information and comments to MMS during the normal public input phases of the NEPA/EIS process. If further information about cooperating agencies is needed, please contact Mr. Dennis Chew at (504) 736-2793.

5. Comments

Federal, State, local government agencies, and other interested parties are requested to send their written comments on the scope of the EIS, significant issues that should be addressed, and alternatives that should be considered one of the following three ways:

1. Electronically using MMS's new Public Connect online commenting system at https://ocsconnect.mms.gov. This is the preferred method for commenting. From the Public Connect “Welcome” screen, search for “WPA and CPA Multisale EIS 2007-2012” or select it from the “Projects Open for Comment” menu.

2. In written form enclosed in an envelope labeled “Comments on the Multisale EIS” and mailed (or hand carried) to the Regional Supervisor, Leasing and Environment (MS 5410), Minerals Management Service, Gulf of Mexico OCS Region, 1201 Elmwood Park Boulevard, New Orleans, Louisiana 70123-2394.

3. Electronically to the MMS e-mail address: environment@mms.gov.

Comments should be submitted no later than 45 days from the publication of this NOI.

6. Scoping Meetings

The MMS will hold scoping meetings to obtain additional comments and information regarding the scope of the EIS. The scoping meetings are scheduled as follows:

• Tuesday, March 28, 2006, Wyndham Greenspoint, 12400 Greenspoint Drive, Houston, Texas, 1 p.m.

• Wednesday, March 29, 2006, Hampton Inn and Suites New Orleans-Elmwood, 5150 Mounes Street, Harahan, Louisiana, 1 p.m.

• Thursday, March 30, 2006, Riverview Plaza Hotel, 64 South Water Street, Mobile, Alabama, 7 p.m.

The MMS is preparing a separate EIS for the new 5-year OCS oil and gas leasing program for proposed lease sales to be held from 2007-2012. MMS will also use the scoping meetings on the multisale EIS as an opportunity to solicit comments on the scope of the 5-year program EIS. Information concerning the 5-year program and EIS can be accessed at http://www.mms.gov/5-year/2007-2012main.htm.

Dated: February 24, 2006.
Thomas A. Readinger,
Associate Director, Offshore Minerals Management.

[FR Doc. E6-3145 Filed 3-6-06; 8:45 am]

BILLING CODE 4310-MR-P